DEPARTMENT OF THE INTERIOR

Bureau of Reclamation

[RR02054000, 14XR0680A1, RX021489433320900]

Notice of Availability and Notice of Public Meetings for the Draft Environmental Impact Statement for Central Valley Project Municipal and Industrial Water Shortage Policy, Central Valley, CA

AGENCY: Bureau of Reclamation, Interior.

ACTION: Notice.

SUMMARY: The Bureau of Reclamation has made available for public review and comment the Central Valley Project (CVP) Municipal and Industrial Water Shortage Policy (M&I WSP) Draft Environmental Impact Statement (EIS). The Draft EIS addresses updating the CVP M&I WSP and implementation guidelines. The CVP M&I WSP would be used by Reclamation to: (1) Define water shortage terms and conditions for applicable CVP M&I water service contractors, as appropriate; (2) establish CVP water supply levels that, together with the M&I water service contractors' drought water conservation measures and other water supplies, would assist the M&I water service contractors in their efforts to protect public health and safety during severe or continuing droughts; and (3) provide information to M&I water service contractors for their use in water supply planning and development of drought contingency plans.

DATES: Send written comments on the Draft EIS on or before January 12, 2015.

Four meetings to receive oral or written comments will be held on the following dates:

• Monday, December 8, 2014, 2-4 p.m., Sacramento, California.

• Wednesday, December 10, 2014, 6-8 p.m., Willows, California.

• Tuesday, December 16, 2014, 6-8 p.m., Fresno, California.

• Wednesday, December 17, 2014, 6-8 p.m., Oakland, California.

ADDRESSES: Send written comments or requests for copies to Mr. Tim Rust, Bureau of Reclamation, Resources Management Division, 2800 Cottage Way, Sacramento, CA 95825, or via email to trust@usbr.gov.

The meeting locations are:

• Sacramento—Sacramento Inn and Conference Center, 1401 Arden Way, Sacramento, California 95825.

• Willows—Veteran's Memorial Hall, 525 W. Sycamore Street, Willows, California 95988.

• Fresno—Piccadilly Inn Airport, 5113 E. McKinley Avenue, Fresno, California 93727.

• Oakland—Oakland Courtyard Airport, 350 Hegenberger Road, Oakland, California 94621.

To request a compact disc of the Draft EIS, please contact Mr. Tim Rust as indicated above, or call (916) 978-5516. The Draft EIS may be viewed at Reclamation's Web site at http://www.usbr.gov/mp/cvp/mandi/index.html. See SUPPLEMENTARY INFORMATION section for locations where copies of the Draft EIS are available for public review.

FOR FURTHER INFORMATION CONTACT: Mr. Tim Rust, Program Manager, Bureau of Reclamation, via email at trust@usbr.gov, or at (916) 978-5516; or Mr. Michael Inthavong, Natural Resources Specialist, Bureau of Reclamation, via email at minthavong@usbr.gov, or at (559) 487-5295.

SUPPLEMENTARY INFORMATION: The CVP is operated under Federal statutes authorizing the CVP, and by the terms and conditions of water rights acquired pursuant to California law. During any year, constraints may occur on the availability of CVP water for M&I water service contractors. The cause of the water shortage may be drought, unavoidable causes, or restricted operations resulting from legal and environmental obligations or mandates. Those legal and environmental obligations include, but are not limited to, the Endangered Species Act, the Central Valley Project Improvement Act (CVPIA), and conditions imposed on CVP's water rights by the California State Water Resources Control Board. The 2001 draft CVP M&I WSP, as modified by Alternative 1 B of the 2005 draft environmental assessment, establishes the terms and conditions regarding the constraints on availability of water supply for the CVP M&I water service contracts.

Allocation of CVP water supplies for any given water year is based upon forecasted reservoir inflows and Central Valley hydrologic conditions, amounts of storage in CVP reservoirs, regulatory requirements, and management of Section 3406(b)(2) resources and refuge water supplies in accordance with CVPIA. In some cases, M&I allocations in water shortage years may differ between CVP divisions due to regional CVP water supply availability, system capacity, or other operational constraints.

The purpose of the update to the 2001 CVP M&I WSP, as modified by Alternative 1 B of the 2005 draft environmental assessment, is to provide detailed, clear, and objective guidelines for the distribution of CVP water supplies during water shortage conditions, thereby allowing CVP water users to know when, and by how much, water deliveries may be reduced in drought and other low water supply conditions.

The increased level of clarity and understanding that will be provided by the update to the 2001 draft CVP M&I WSP is needed by water managers and the entities that receive CVP water to better plan for and manage available CVP water supplies, and to better integrate the use of CVP water with other available non-CVP water supplies. The update to the 2001 draft CVP M&I WSP is also needed to clarify certain terms and conditions with regard to its applicability and implementation. The proposed action is the adoption of an updated CVP M&I WSP and its implementation guidelines.

The EIS analyzes five alternative actions. Alternative 1 is No Action, and represents the current 2001 draft CVP M&I WSP, as modified by Alternative 1 B of the 2005 Environmental Assessment, which is currently guiding Reclamation's allocation of water to agricultural and M&I water service contractors during water shortage years. Alternative 2, Equal Agricultural and M&I Allocation, provides M&I and agricultural water service contractors with equal allocation percentages during water shortage conditions. Alternative 3, Full M&I Allocation Preference, provides M&I contractors with 100 percent of their contract allocation until CVP supplies are not available to meet those demands, while agricultural water service contractor deliveries are reduced as needed. Alternative 4, Updated M&I WSP, modifies Alternative 1 to provide a different definition of unconstrained years used in calculating historical use, and provides higher level of deliveries to M&I water service contractors by attempting to provide minimum public health and safety (PH&S) unmet need amounts without a guarantee. Alternative 5, M&I Contractor Suggested WSP, is similar to Alternative 4 but attempts to meet PH&S unmet need deliveries through modification of operational priorities.

Public Review of Draft EIS

Copies of the Draft EIS are available for public review at the following locations:

1. Bureau of Reclamation, Mid-Pacific Region, Regional Library, 2800 Cottage Way, Sacramento, CA 95825.

2. Natural Resources Library, U.S. Department of the Interior, 1849 C Street NW., Main Interior Building, Washington, DC 20240-0001.

Special Assistance for Public Meetings

If special assistance is required to participate in the public meeting, please contact Mr. Louis Moore at (916) 978-5106, or via email at wmoore@usbr.gov. Please contact Mr. Moore at least 10 working days prior to the meeting. A telephone device for the hearing impaired (TDD) is available at (916) 978-5608.

Public Disclosure

Before including your address, phone number, email address, or other personal identifying information in your comment, you should be aware that your entire comment—including your personal identifying information—may be made publicly available at any time. While you can ask us in your comment to withhold your personal identifying information from public review, we cannot guarantee that we will be able to do so.

Dated: October 28, 2014.
Pablo Arroyave,
Deputy Regional Director.

[FR Doc. 2014-27372 Filed 11-18-14; 8:45 am]

BILLING CODE 4332-90-P